DEPARTMENT OF LABOR

Employment and Training Administration

[TA-W-80,110]

Callaway Golf Ball Operations, Inc., Including On-Site Leased Workers From Reliable Temp Services, Inc., Johnson & Hill Staffing and Apollo Security, Chicopee, MA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 24, 2011, applicable to workers of Callaway Golf Ball Operations, Inc., including on-site leased workers from Reliable Temp Services, Inc., and Johnson and Hill Staffing, Chicopee, Massachusetts. The workers are engaged in activities related to the production of golf balls. The notice was published in the Federal Register on July 8, 2011 (76 FR 40401).

At the request of the State agency, the Department reviewed the certification for workers of the subject firm. New information shows that workers leased from Apollo Security were employed on-site at the Chicopee, Massachusetts location of Callaway Golf Ball Operations, Inc. The Department has determined that these workers were sufficiently under the control of Callaway Golf Ball Operations, Inc. to be considered leased workers.

The intent of the Department's certification is to include all workers of the subject firm adversely affected by increased company imports.

Based on these findings, the Department is amending this certification to include workers leased from Apollo Security working on-site at the Chicopee, Massachusetts location of the subject firm.

The amended notice applicable to TA-W-80,110 is hereby issued as follows:

All workers of Callaway Golf Ball Operations, Inc., including on-site leased workers from Reliable Temp Services, Inc., Johnson & Hill Staffing and Apollo Security, Chicopee, Massachusetts, who became totally or partially separated from employment on or after July 1, 2011, through June 24, 2013, are eligible to apply for adjustment assistance under Section 223 of the Trade Act of 1974, and are also eligible to apply for alternative trade adjustment assistance under Section 246 of the Trade Act of 1974.

Signed at Washington, DC this 12th day of October, 2011.
Del Min Amy Chen,
Certifying Officer, Office of Trade Adjustment Assistance.

[FR Doc. 2011-27702 Filed 10-25-11; 8:45 am]

BILLING CODE 4510-FN-P